DEPARTMENT OF LABOR

Employment and Training Administration

Notice of Determinations Regarding Eligibility To Apply for Worker Adjustment Assistance

In accordance with Section 223 of the Trade Act of 1974, as amended (19 USC 2273) the Department of Labor herein presents summaries of determinations regarding eligibility to apply for trade adjustment assistance for workers by (TA-W) number issued during the period of September 7 through September 18, 2009.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations For Worker Adjustment Assistance

The following certifications have been issued. The date following the company name and location of each determination references the impact date for all workers of such determination.

The following certifications have been issued. The requirements of Section 222(a)(2)(A) (increased imports) of the Trade Act have been met.

TA-W-70,296; SMC Corporation of America, Detroit Branch, Rochester Hills, MI: May 19, 2008

TA-W-70,459; Icon Health and Fitness, Intermountain Staffing, People Link, Logan, UT: May 20, 2008

TA-W-70,934; Airtex Products, LP, Fairfield, IL: November 14, 2008

TA-W-71,103; KF Industries, Circo Energy Products Div. Cirocor International, Leased workers from Adecco, Oklahoma City, OK: June 1, 2008

TA-W-71,249; General Motors Company, GM Corp., Vehicle Mfg., Assembly Plant, Caravan/Knight, Wilmington, DE: June 15, 2008

TA-W-71,738; United States Gypsum Company, Rainer, OR: July 17, 2008

TA-W-72,129; Hampton Lumber Mills—Washington, Inc., Morton Division, Morton, WA: August 25, 2008

TA-W-70,823; Blount, Inc., Milwaukie, OR: May 29, 2008

TA-W-70,006; Maine Woods Company, Tempo Employment Service, Portage Lake, ME: May 18, 2008

TA-W-70,083; Circuit Check, Inc, Leased Workers—Aerotek, MRI, and E-Technical Staffing Inc., Maple Grove, MN: May 18, 2008

TA-W-70,124A; Hutchinson Technology, Inc., Leased Workers From Doherty, Plymouth, MN: May 18, 2008

TA-W-70,124; Hutchinson Technology, Inc., Leased Workers From Doherty, Hutchinson, MN: May 18, 2008

TA-W-70,281; AGC Flat Glass North America, Inc., Corporate Services Office, Kingsport, TN: April 20, 2008

TA-W-70,354; Mold-Rite Tool, Inc., Cignet, LLC, Fraser, MI: May 19, 2008

TA-W-70,423; Phillips Plating Corporation, Phillips, WI: May 19, 2008

TA-W-70,470; Vette Corp, North America Power Division, Ontario, NY: May 18, 2008

TA-W-70,555; Highland Machine & Screw Products, Highland, IL: May 21, 2008

TA-W-70,593A; Enterprise Automotive Systems, Leased Wkrs from LG Manpower, Saginaw, MI: May 22, 2008

TA-W-70,593B; Saginaw Veterans LLC, Enterprise Automotive Systems, Leased Wkrs from LG Manpower, Saginaw, MI: May 22, 2008

TA-W-70,593; Enterprise Automotive Systems, Leased Workers from LG Manpower, Warren, MI: May 22, 2008

TA-W-70,710; Biofit Engineered Products LTD Partnership, Bowling Green, OH: May 27, 2008

TA-W-70,781; Biddle Precisions Components, Sheridan, IN: May 27, 2008

TA-W-71,278; Kennametal, Inc., AMSG Division, Farmington Hills, MI: June 9, 2008

TA-W-71,442; Carlisle Finishing, LLC, A Division of International Textile Group, Carlisle, SC: May 17, 2009

TA-W-71,666; Braka Industries, Inc., Salem, OR: July 1, 2008

TA-W-71,719; C & A Apparel Inc., San Francisco, CA: July 3, 2008

TA-W-70,081A; Scotty's Fashions Cutting, Inc., Penargyl, PA: May 18, 2008

TA-W-70,081; Scotty's Fashions of Lehighton, Lehighton, PA: May 18, 2008

TA-W-70,669; Archway Cookies LLC, Ashland, OH: May 26, 2008

TA-W-71,136; Chrysler Group LLC, Chrysler LLC, Conner Ave. Assembly, Aerotek, etc, Detroit, MI: May 27, 2008

TA-W-71,263; Chrysler Group, LLC, Belvidere, IL: June 16, 2008

The following certifications have been issued. The requirements of Section 222(a)(2)(B) (shift in production or services) of the Trade Act have been met.

TA-W-70,098; Stahl USA, Inc., Leased Workers From Raduis Staffing Resources, LLC and SJ Services Inc., Peabody, MA: May 18, 2008

TA-W-70,139; Valeo Electrical Systems, Human Resource Dept., Tap Personnel, Rochester, NY: May 10, 2009

TA-W-70,153A; Henkel Corporation, National Starch Corp., Acheson Coloids, Marquee, Ontario, CA: May 18, 2008

TA-W-70,153B; Henkel Corporation, National Starch Corp., Emerson & Cuming, Aerotek, Canton, MA: May 18, 2008

TA-W-70,153C; Henkel Corporation, Formerly Ablestik, San Diego, CA: May 18, 2008

TA-W-70,153; Henkel Corporation, Adhesive Electronics Div., Spherion, Lab Support, City of Industry, CA: May 18, 2008

TA-W-70,169; Molex, Inc., Commercial Products Division, Maumelle, AR: May 18, 2008

TA-W-70,176; Tex Tech Industries, North Monmouth, ME: May 18, 2008

TA-W-70,339; Delphi Electronics and Safety, Electronics and Safety Division, Trialon, Auburn Hills, MI: May 19, 2008

TA-W-70,455; Astellas US Technologies, Inc., Astellas Pharma, Superior Staff, Remedy, Adecco, Grand Island, NY: May 19, 2008

TA-W-70,462; Windsor Forestry Tools, A Subsidiary of Blount, Inc., Milan, TN: May 20, 2008

TA-W-70,518; Ceco Building Systems, Robertson-Ceco Corp. Div., Rocky Mount, NC: May 21, 2008

TA-W-70,648; Fabric Trends International, LLC, Plainfield, CT: May 26, 2008

TA-W-70,854; Daido Metal Bellefontaine, LLC, Bellefontaine, OH: June 2, 2008

TA-W-71,012A; Vanity Fair Brands, LP, Monroeville Administration, Monroeville, AL: July 6, 2009

TA-W-71,012; Vanity Fair Brands, LP, Fruit of the Loom, Monroeville Dye Finish Facility, Monroeville, AL: July 6, 2009

TA-W-71,028; Carlton Company, Inc., A subsidiary of Blount, Inc., Milwaukie, OR: June 4, 2008

TA-W-71,079; Ametek Aerospace Seattle Support Center, Aerotek Commercial and Westech Techical, Mukilteo. WA: June 8, 2008

TA-W-71,211; Heli-One USA, Inc, Helicopter Corp., Accountemps and Agente Tech, Hurst, TX: June 12, 2008

TA-W-71,273; Comau Automation and Engineering Company, Subsidiary of Camau, Inc., Novi, MI: June 9, 2008

TA-W-71,361A; Page Employment, Working on-site at ZF Lemforder Corp, Brewer, ME: June 22, 2008

TA-W-71,361; ZF Lemforder Corporation, F-Brewer Division, ZF Friedrichsfafen AG, Brewer, ME: February 10, 2009

TA-W-71,673; FLA Orthopedics, Inc., Staff Masters and Aerotek, Huntersville, NC: July 13, 2008

TA-W-71,782; Weyerhaeuser NR Company, I-Level Lumber Division, Taylor, LA: July 20, 2008

TA-W-71,806; Actel Corporation, Leased Workers ATR International, Accountants Inc., and Accountant Temps, Mountain View, CA: July 23, 2008

TA-W-71,825; Transistor Devices, Inc., Leased Workers—Synerfac Technical Staffing, Tecnosource Consulting, Hackettstown, NJ: July 27, 2008

TA-W-71,919; Denso Manufacturing of Michigan, Adecco Employment, Adeco Tech, Aerotec, etc, Battle Creek, MI: August 3, 2008

TA-W-71,943; 3M Company, Auto Aftermarket, Volt Services, Solon, OH: August 6, 2008

TA-W-71,959; Alpine Biomed, Leased Workers—Kelly Services, Appleone, and Concise Technologies, Fountain Valley, CA: August 7, 2008

TA-W-71,993; Matthews Bronze, Matthews Int. Corp., Bronze Div., Emedy International Staffing, Seneca Falls, NY: August 11, 2008

TA-W-72,030; Teijin Monofilament U.S., Inc, Creative Workforce Staffing, Spartanburg, SC: August 10, 2008

TA-W-72,066; ASC Industries, Snelling Temporary and Superior Staffing, North Canton, OH: August 10, 2008

TA-W-72,091; CML Innovative Technologies, Hackensack, NJ: August 19, 2008

TA-W-70,432; Bead Industries, Inc., Bead Chain Division, Milford, CT: May 19, 2008

TA-W-70,870; H. W. Wilson Company, Bronx, NY: May 29, 2008

TA-W-71,629; Hub City, Mechanical Division, Aberdeen, SD: July 1, 2008

TA-W-72,000; Hertz Corporation (The), At Hertz Tech Center—Express Employment Professionals and Addison Group, Oklahoma City, OK: August 5, 2008

TA-W-70,405; Avaya, Inc., Worldwide Services Group, GSS, Kelly Serv., etc, Highlands Ranch, CO: May 19, 2008

TA-W-70,738; Amdocs Inc., Milwaukee, WI: May 29, 2009

TA-W-71,091; Computer Sciences Corporation—Managed Services Sector, America's Outsourcing—Freescale Account Unit, Austin, TX: May 22, 2008

TA-W-71,400; Smart Apparel (US) Inc., A/P and A/R Dept., Leased Workers of Office Team and Accountemps, Quakertown, PA: June 23, 2008

TA-W-71,808; StudentUniverse.com, Inc, Waltham, MA: July 27, 2008

TA-W-71,862; Deutsche Bank AG, New York Branch, Finance Asset Management, New York, NY: July 27, 2008

TA-W-71,894; Kaiser Foundation Hospitals, Kaiser Permanente, Corona, CA: July 23, 2008

TA-W-72,054; Intermec Technologies Corporation, A Subsidiary of Intermec, Inc., Leased Workers from Face Staffing, Cedar Rapids, IA: August 17, 2008

TA-W-71,814; Lavita, Inc., Sample Room, New York, NY: July 20, 2008

The following certifications have been issued. The requirements of Section 222(b) (adversely affected workers in public agencies) of the Trade Act have been met.

None

The following certifications have been issued. The requirements of Section 222(c) (supplier to a firm whose workers are certified eligible to apply for TAA) of the Trade Act have been met.

TA-W-70,101; Domtar Industries, Inc., Woodland Mill-Kraft Market Pulp, Vescom Corp., Baileyville, ME: May 18, 2008

TA-W-70,140; Wall Printing Company, Leased Workers of TRC Staffing, High Point, NC: May 18, 2008

TA-W-71,183; Cintas Corporation, Portal, GA: June 10, 2008

TA-W-71,635; Ventra Evart, LLC, Division of Flex-N-Gate, Leased Workers from Manpower Temporary Service, Evart, MI: July 10, 2008

TA-W-71,930; International Automotive Components, Flooring and Acoustics Group, Old Fort, NC: August 4, 2008

TA-W-70,182; St Lawrence and Atlantic Railroad, Auburn, ME: May 18, 2008

TA-W-70,748; Ureco, Inc., Columbia Falls, MT: May 28, 2008

TA-W-70,844; Allied Barton Security Services, Employed at Phelps Dodge Chino, Inc., El Paso, TX: May 29, 2008

The following certifications have been issued. The requirements of Section 222(c) (downstream producer for a firm whose workers are certified eligible to apply for TAA) of the Trade Act have been met.

None

The following certifications have been issued. The requirements of Section 222(f) (firms identified by the International Trade Commission) of the Trade Act have been met.

None

Negative Determinations for Worker Adjustment Assistance

In the following cases, the investigation revealed that the eligibility criteria for worker adjustment assistance have not been met for the reasons specified.

The investigation revealed that the criterion under paragraph (a)(1), or (b)(1), or (c)(1)(employment decline or threat of separation) of section 222 has not been met.

TA-W-70,355; Carmeuse Lime, Inc., Carmeuse North America, B.V., Pittsburgh, MN.

The investigation revealed that the criteria under paragraphs (a)(2)(A)(i) (decline in sales or production, or both) and (a)(2)(B) (shift in production or services to a foreign country) of section 222 have not been met.

None

The investigation revealed that the criteria under paragraphs (a)(2)(A) (increased imports) and (a)(2)(B) (shift in production or services to a foreign country) of section 222 have not been met.

TA-W-70,045; Victoria and Co., Ltd, Div. of Jones Apparel Group, East Providence, ME.

TA-W-70,092; Spartan Felt Company, Inc., Roebuck, PA.

TA-W-70,295; Ultimizers, Inc., Boring, MN.

TA-W-71,315; Cascade Grain Products, LLC, Clatskanie, MI.

TA-W-71,740; Charapp Chrysler, Jeep & Dodge of Kittanning, Kittanning, NY.

TA-W-72,020; Equistar, Beaumont, MI.

TA-W-70,185; Gulliver's Travels, Sarasota, PA.

TA-W-70,469; Datamatics Global Services, Inc., Data Entry Group, Burlington, MN.

TA-W-70,513; Chrysler Financial Services LLC, Troy Michigan Contact Center, Troy, TN.

TA-W-71,041; Menlo Worldwide Logistics, Brownstown, MI.

TA-W-71,496; Wikel-Allen Express, LLC, Cape Girardeau, WI.

TA-W-71,733; U.S. Airways, El Paso, UT.

The investigation revealed that the criteria under paragraphs (b)(2) and (b)(3) (public agency acquisition of services from a foreign country) of section 222 have not been met.

None

The investigation revealed that criteria of Section 222(c)(2) has not been met. The workers' firm (or subdivision) is not a Supplier to or a Downstream Producer for a firm whose workers were certified as eligible to apply for TAA.

TA-W-71,816; Chicago and Midwest Regional Joint Board, Toledo Division, Toledo, IL.

I hereby certify that the aforementioned determinations were issued during the period of September 7 through September 18, 2009. Copies of these determinations are available for inspection in Room N-5428, U.S. Department of Labor, 200 Constitution Avenue, NW., Washington, DC 20210 during normal business hours or will be mailed to persons who write to the above address.

Dated: October 27, 2009.
Richard Church,
Certifying Officer, Division of Trade Adjustment Assistance.

[FR Doc. E9-26567 Filed 11-4-09; 8:45 am]

BILLING CODE 4510-FN-P